DEPARTMENT OF HOUSING AND URBAN DEVELOPMENT

[Docket No. FR-4837-D-21]

Revocation and Redelegation of Fair Housing Act Complaint Processing Authority

AGENCY: Office of the Assistant Secretary for Fair Housing and Equal Opportunity, HUD.

ACTION: Notice of Revocation and redelegation of authority.

SUMMARY: The Assistant Secretary for Fair Housing and Equal Opportunity (FHEO) revokes all prior redelegations of authority for Fair Housing Act complaint processing made within the Office of the Assistant Secretary for FHEO under the Fair Housing Act and redelegates this authority to FHEO field and headquarters staff.

EFFECTIVE DATE: July 25, 2003.

FOR FURTHER INFORMATION CONTACT: Karen A. Newton, Deputy Assistant Secretary for Operations and Management, Office of Fair Housing and Equal Opportunity, Department of Housing and Urban Development, 451 Seventh Street SW., Room 5128, Washington, DC 20410-0001, telephone (202) 708-0768. (This is not a toll-free number.) Hearing- and speech-impaired individuals may access this number through TTY by calling the toll-free Federal Information Relay Service at (800) 877-8339.

SUPPLEMENTARY INFORMATION: In a March 30, 1989, notice (54 FR 13121), the Secretary of HUD delegated the authority to enforce the Fair Housing Act to the Assistant Secretary for FHEO and the General Counsel, among other Department officials. Since 1989, the Assistant Secretary for FHEO has published several redelegations of Fair Housing Act complaint processing authority to staff. In this notice, the Assistant Secretary for FHEO revokes all prior redelegations of authority for Fair Housing Act complaint processing made by the Assistant Secretary for FHEO under the Fair Housing Act (42 U.S.C. 3601 et seq.), and redelegates this authority. Accordingly, the Assistant Secretary for FHEO redelegates this authority as provided in this notice.

Section A. Authority Redelegated

The Assistant Secretary for FHEO redelegates the authority for Fair Housing Act complaint processing, as provided in 24 CFR part 103, to the General Deputy Assistant Secretary for FHEO.

The General Deputy Assistant Secretary for FHEO further redelegates the authority under 24 CFR part 103, subparts A, B, D (with the exception of the filing of a Secretary-initiated complaint under 24 CFR 103.200(b) and 24 CFR 103.204(a)), E, and F, to the FHEO Hub Directors, to the Deputy Assistant Secretary for Enforcement and Programs, and to the Director of the Office of Enforcement.

The General Deputy Assistant Secretary for FHEO further redelegates the authority, under 24 CFR part 103, subpart C, to the FHEO Hub Directors, and the Deputy Assistant Secretary for Enforcement and Programs.

The General Deputy Assistant Secretary for FHEO further redelegates the authority under 24 CFR 103.510(a) and (d) to the FHEO Hub Directors, to the Deputy Assistant Secretary for Enforcement and Programs and to the Director of the Office of Enforcement, with the exception of pattern and practice referrals to the Attorney General, which are redelegated only to the Deputy Assistant Secretary for Enforcement and Programs, and to the Director of the Office of Enforcement.

The Assistant Secretary for FHEO redelegates to the General Deputy Assistant Secretary for FHEO the authority to reconsider no cause determinations. The General Deputy Assistant Secretary for FHEO further redelegates this authority to the Deputy Assistant Secretary for Enforcement and Programs, and to the Director of the Office of Enforcement.

The Assistant Secretary for FHEO redelegates to the General Deputy Assistant Secretary for FHEO the authority to issue subpoenas related to the Young v. Martinez litigation. The General Deputy Assistant Secretary for FHEO further redelegates this authority to the Deputy Assistant Secretary for Enforcement and Programs and to the Director of the Young Implementation Office.

Section B. Authority To Further Redelegate

The Deputy Assistant Secretary for Enforcement and Programs, the Director of the Office of Enforcement, the FHEO Hub Directors, and the Director of the Young Implementation Office may not redelegate the authorities provided in Section A of this notice.

Section C. Authority Revoked

All prior redelegations of authority for Fair Housing complaint processing made within the Office of the Assistant Secretary for FHEO are revoked.

Authority: Section 7(d) of the Department of Housing and Urban Development Act (42 U.S.C. 3535(d)).

Dated: July 25, 2003.
Carolyn Y. Peoples,
Assistant Secretary for Fair Housing and Equal Opportunity.
Floyd O. May,
General Deputy Assistant Secretary for Fair Housing and Equal Opportunity.

[FR Doc. 03-19786 Filed 8-1-03; 8:45 am]

BILLING CODE 4210-28-P